ENVIRONMENTAL PROTECTION AGENCY

40 CFR Part 52

[EPA-R09-OAR-2017-0620; FRL-9978-19—Region 9]

Approval and Promulgation of Implementation Plans; California; California Mobile Source Regulations

AGENCY: Environmental Protection Agency (EPA).

ACTION: Final rule.

SUMMARY: The Environmental Protection Agency (EPA) is taking final action to approve a submittal by the State of California (“State”) to revise its State Implementation Plan (SIP). The submittal consists of State regulations establishing standards and other requirements relating to the control of emissions from certain new and in-use on-road and off-road vehicles and engines. The EPA is approving the SIP revision because the regulations meet the applicable requirements of the Clean Air Act. Approval of these regulations as part of the California SIP makes them federally enforceable.

DATES: This rule is effective on June 18, 2018.

ADDRESSES: The EPA has established a docket for this action under Docket ID No. EPA-R09-OAR-2017-0620. All documents in the docket are listed on the http://www.regulations.gov website. Although listed in the index, some information is not publicly available, e.g., Confidential Business Information (CBI) or other information whose disclosure is restricted by statute. Certain other material, such as copyrighted material, is not placed on the internet and will be publicly available only in hard copy form. Publicly available docket materials are available through http://www.regulations.gov, or please contact the person identified in the FOR FURTHER INFORMATION CONTACT section for additional availability information.

FOR FURTHER INFORMATION CONTACT: John Ungvarsky, EPA Region IX, (415) 972-3963, ungvarsky.john@epa.gov.

SUPPLEMENTARY INFORMATION: Throughout this document, “we,” “us” and “our” refer to the EPA.

Table of Contents

I. Proposed Action

II. Public Comments and EPA Responses

III. Final Action

IV. Incorporation by Reference

V. Statutory and Executive Order Reviews

I. Proposed Action

On February 27, 2018 (83 FR 8403) (“proposed rule”), the EPA proposed to approve a SIP revision submitted by the California Air Resources Board (CARB) on June 15, 2017. The submittal consists of certain state regulations establishing standards and other requirements relating to the control of emissions from new on-road and new and in-use off-road vehicles and engines (referred to herein as “mobile source regulations”) for which the EPA has previously issued waivers or authorizations under section 209(b) or section 209(e)(2), respectively, of the Clean Air Act (“Act” or CAA).

Our proposed rule provided background information concerning the CAA, national ambient air quality standards (NAAQS), SIPs, and other matters pertinent to this rulemaking. See 83 FR at 8403-8404. We noted in particular that a basic content requirement for SIPs is that they include enforceable emission limitations and other control measures, means, or techniques as may be necessary or appropriate to meet the applicable requirements of the CAA (see section 110(a)(2)(A)). We also noted that the EPA's long-standing practice was to allow California emissions reductions credit for mobile source regulations for which the EPA had issued waivers or authorizations under section 209 but that had not been submitted or approved as part of the SIP. We noted that the EPA's rationale for this long-standing practice was rejected by the United States Court of Appeals for the Ninth Circuit in Committee for a Better Arvin v. EPA, 786 F.3d 1169 (9th Cir. 2015) (Committee for a Better Arvin), and that the decision in Committee for a Better Arvin led to submittals by CARB of numerous mobile source regulations as SIP revisions on August 14, 2015, December 7, 2016, and June 15, 2017.

In our proposed rule, we described CARB's June 15, 2017 SIP revision as consisting of the regulations themselves and documentation of the public process conducted by CARB in approving the regulations as part of the California SIP. Specifically, the proposed rule included Table 1 (see below), which presents the contents of the SIP revision by mobile source category and provides, for each category, a listing of the relevant sections of the California Code of Regulations (CCR) that establish standards and other requirements for control of emissions from new on-road and new or in-use off-road vehicles or engines; the corresponding date of CARB's hearing or Executive Officer action through which the regulations or amendments were adopted; and the notice of decision in which the EPA granted a waiver or authorization for the given set of regulations. For this final rule, we are republishing Table 1 from the proposed rule.

Table 1—CARB SIP Revision Submittal Summary
Source category | Relevant sections of California Code of Regulations | Date of relevant CARB hearing or executive officer action | EPA notice of decision
Commercial Harbor Craft (CHC) | 17 CCR section 93118.5 (excluding (e)(1)), effective for State law purposes on July 20, 2011 | June 24, 2010 | 82 FR 6500 (January 19, 2017).
In-Use Diesel-Fueled Transport Refrigeration Units (TRUs) | 13 CCR sections 2477, 2477.1 through 2477.21, effective for State law purposes on October 15, 2012 | October 21, 2011 | 82 FR 6525 (January 19, 2017).
On-Road Heavy-Duty Diesel Engines (HDD) | 13 CCR section 1956.8, effective for State law purposes on December 22, 2011, and the document incorporated by reference (see table 2 below) | June 23, 2011 | 82 FR 4867 (January 17, 2017).
Off-Highway Recreational Vehicles (OHRVs) | 13 CCR sections 2416, 2417, 2418, 2419, 2419.1-2419.4, effective for State law purposes on April 1, 2015, and the document incorporated by reference (see table 2 below) | July 25, 2013 | 82 FR 6540 (January 19, 2017).

The regulations submitted by CARB and listed in Table 1 incorporate by reference certain documents that establish test procedures and labeling specifications, among other things, and CARB submitted these documents as part of the overall SIP revision. In our proposed rule, we included a table (republished as Table 2 below) that listed the incorporated documents included in the SIP submittal. Our proposed rule also included a third table in which we described the applicability of the regulations listed in Table 1 above and summarized some of the key emissions control requirements contained in the rules. See 83 FR at 8305. In this action, we are approving the regulations in Table 1 and the test procedures and specifications in Table 2 as a revision to the California SIP.

Table 2—Documents Incorporated by Reference in CARB Regulations Listed in Table 1 and Submitted as Part of SIP Revision
On-Road Heavy-Duty Diesel Engines:
California Exhaust Emission Standards and Test Procedures for 2004 and Subsequent Model Heavy-Duty Diesel Engines and Vehicles, as last amended October 12, 2011.
Off-Highway Recreational Vehicles and Engines:
Test Procedure for Determining Evaporative Emissions from Off-Highway Recreational Vehicles (TP-933), dated November 5, 2014.

In our proposed rule, we described how we evaluated the regulations and how we determined that the regulations meet all applicable CAA requirements for SIPs and SIP revisions. See 83 FR at 8406-8407. In short, we determined that:

• CARB has provided adequate public notice of a comment period and a hearing on the draft SIP revision prior to adoption and submittal to the EPA, and thereby complied with the applicable procedural requirements for SIP revisions under the CAA section 110(l) and 40 CFR 51.102;

• CARB has adequate legal authority to implement the regulations because state law so provides, because the regulations are not preempted under the CAA (due to the EPA's grant of waivers or authorizations for them under CAA section 209), and because CARB is not otherwise prohibited by any provision of federal or state law from carrying out the regulations;

• The regulations include all the elements necessary to provide for practical enforceability, including clear applicability and exemption provisions, emissions standards and other requirements, test methods, recordkeeping and reporting provisions, and thereby establish enforceable emissions limitations as required under CAA section 110(a)(2)(A);

• CARB's mobile source regulations achieve emissions reductions and thereby support the various reasonable further progress, attainment, and maintenance plans developed by California to meet CAA SIP requirements, and thus would not interfere with such CAA requirements for the purposes of CAA section 110(l); and

• Given the longstanding nature of CARB's mobile source program, and its documented effectiveness at achieving significant reductions from mobile sources, the State has adequate personnel and funding to carry out the mobile source regulations submitted for approval as part of the California SIP.

For more background information on the regulatory context for this final rule, and for additional detail on the SIP submittal itself, and our evaluation, please see our proposed rule.

II. Public Comments and EPA Responses

The EPA's proposed rule, published at 83 FR 8403 (February 27, 2018), provided for a 30-day comment period. The EPA received fifteen anonymous comment letters in response to the proposed rule. Thirteen of the comments concern issues that are outside the scope of our proposed approval of the California mobile source regulations as a revision to the California SIP. The issues raised in those comments include, but are not limited to, air quality in China, EPA Administrator Scott Pruitt, renewable energy, natural gas, mining, the dangers of electric cars, wind farms, taxes, and wind turbines. We received two comment letters germane to the proposed action. In the paragraphs below, we summarize the relevant comments and provide our responses.

Comment #1: The commenter agrees with the EPA's proposed approval of the California mobile source SIP revision and believes that regulation, enforcement, and implementation of the mobile source regulations should be handled on the federal level.

EPA Response to Comment #1: As a general matter, the CAA assigns mobile source regulation to the EPA through title II of the Act and assigns stationary source regulation and SIP development responsibilities to the states through title I of the Act. In so doing, the CAA preempts various types of state regulation of mobile sources as set forth in section 209(a) (preemption of state emissions standards for new motor vehicles and engines), section 209(e) (preemption of state emissions standards for new and in-use off-road vehicles and engines), and section 211(c)(4)(A) (preemption of state fuel requirements for motor vehicle emission control, i.e., other than California's motor vehicle fuel requirements for motor vehicle emission control—see section 211(c)(4)(B)). For certain types of mobile source emission standards, however, the State of California may request a waiver (for motor vehicles) or authorization (for off-road engines and equipment) for standards relating to the control of emissions and accompanying enforcement procedures. See CAA sections 209(b) (new motor vehicles) and 209(e)(2) (most categories of new and in-use off-road vehicles). In this action, the EPA is approving certain California mobile source regulations for which the EPA has granted waivers or authorizations under CAA sections 209(b) or 209(e)(2).

Comment #2: The commenter requests that the exclusion of 17 CCR 93118.5(e)(1) (relating to low sulfur fuel requirements for commercial harbor craft) from the SIP action be reconsidered in light of the associated emissions reductions from the requirement to use such fuel.

EPA Response to Comment #2: The specific paragraph in question was not submitted to the EPA as part of CARB's June 15, 2017 SIP revision and thus is not subject to the EPA's review and approval or disapproval at this time. We agree that CARB should submit the low sulfur fuel requirement for commercial harbor craft as part of the SIP if needed or relied upon to meet any CAA requirements, such as reasonable further progress or attainment demonstrations.

III. Final Action

Under section 110(k)(3) of the CAA, and for the reasons given in the proposed rule and summarized above, we are taking final action to approve a SIP revision submitted by CARB on June 15, 2017, that includes certain sections of title 13 and title 17 of the California Code of Regulations that establish standards and other requirements relating to the control of emissions from certain new and in-use on-road and off-road vehicles and engines. Tables 1 and 2 above list the regulations and related test procedures and other specifications we are approving in this action. We are approving the SIP revision because the regulations (and related test procedures and other specifications) included therein fulfill all relevant CAA requirements. This final action incorporates by reference the regulations into the federally enforceable SIP for the State of California.

IV. Incorporation by Reference

In this rule, the EPA is finalizing regulatory text that includes incorporation by reference. In accordance with requirements of 1 CFR 51.5, the EPA is finalizing the incorporation by reference of certain sections of title 13 and title 17 of the California Code of Regulations described in the amendments to 40 CFR part 52 set forth below. The EPA has made, and will continue to make, these materials generally available through www.regulations.gov and at the EPA Region IX Office (please contact the person identified in the FOR FURTHER INFORMATION CONTACT section of this preamble for more information). Therefore, these materials have been approved by the EPA for inclusion in the SIP, have been incorporated by reference by the EPA into that plan, are fully federally enforceable under sections 110 and 113 of the CAA as of the effective date of the final rulemaking of EPA's approval, and will be incorporated by reference in the next update to the SIP compilation.

V. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by July 17, 2018. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen dioxide, Ozone, Particulate matter, Reporting and recordkeeping requirements, Volatile organic compounds.

Authority: 42 U.S.C. 7401 et seq.

Dated: May 8, 2018.
Alexis Strauss,
Acting Regional Administrator, Region IX.

Chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220a is amended in paragraph (c) by:

a. In table 1:

i. Adding an entry for “1956.8(b)” after the entry for “1956.8(b), (c)(1)(A)(3), (d), and (h)(5)”;

ii. Adding entries for “2416”, “2417”, “2418”, “2419”, “2419.1”, “2419.2”, “2419.3”, and “2419.4” after the entry for “2413”;

iii. Revising the entry for “2477”;

iv. Adding entries for “2477.1”, “2477.2”, “2477.3”, “2477.4”, “2477.5”, “2477.6”, “2477.7”, “2477.8”, “2477.9”, “2477.10”, “2477.11”, “2477.12”, “2477.13”, “2477.14”, “2477.15”, “2477.16”, “2477.17”, “2477.18”, “2477.19”, “2477.20”, and “2477.21” after the entry for “2477”; and

v. Revising the entry for “93118.5, excluding (e)(1)”; and

b. In table 2:

i. Adding an entry for “California Exhaust Emission Standards and Test Procedures for 2004 and Subsequent Model Heavy-Duty Diesel Engines and Vehicles, as last amended October 12, 2011” after the entry for “California Exhaust Emission Standards and Test Procedures for 2004 and Subsequent Model Heavy-Duty Diesel Engines, as last amended September 1, 2006”; and

ii. Adding an entry for “Test Procedure for Determining Evaporative Emissions from Off-Highway Recreational Vehicles (TP-933), adopted November 5, 2014” after the entry for “California Exhaust Emissions Standards and Test Procedures for 1997 and Later Off-Highway Recreational Vehicles and Engines, as last amended October 25, 2012”.

The additions and revisions read as follows:

§ 52.220a Identification of plan—in part.

* * * * *

(c) * * *

Table 1—EPA-Approved Statutes and State Regulations ¹
State citation | Title/subject | State effective date | EPA approval date | Additional explanation
* * * * * * *
1956.8(b) | Exhaust Emissions Standards and Test Procedures—1985 and Subsequent Model Heavy-Duty Engines and Vehicles | 12/22/2011 | [Insert Federal Register citation], 5/18/2018 | Updates certain test procedures.
* * * * * * *
2416 | Applicability | 4/1/2015 | [Insert Federal Register citation], 5/18/2018 | Sections 2416-2419.4 establish certain evaporative emission standards for off-highway recreational vehicles.
2417 | Definitions | 4/1/2015 | [Insert Federal Register citation], 5/18/2018 | Sections 2416-2419.4 establish certain evaporative emission standards for off-highway recreational vehicles.
2418 | Evaporative Emission Standards and Test Procedures | 4/1/2015 | [Insert Federal Register citation], 5/18/2018 | Sections 2416-2419.4 establish certain evaporative emission standards for off-highway recreational vehicles.
2419 | Evaporative Emission Control Labels—New Off-Highway Recreational Vehicles | 4/1/2015 | [Insert Federal Register citation], 5/18/2018 | Sections 2416-2419.4 establish certain evaporative emission standards for off-highway recreational vehicles.
2419.1 | Defect Warranty Requirements for Evaporative Emissions Control Systems of 2018 and Later Model Year Off-Highway Recreational Vehicles | 4/1/2015 | [Insert Federal Register citation], 5/18/2018 | Sections 2416-2419.4 establish certain evaporative emission standards for off-highway recreational vehicles.
2419.2 | Evaporative Emissions Control System Warranty Statement | 4/1/2015 | [Insert Federal Register citation], 5/18/2018 | Sections 2416-2419.4 establish certain evaporative emission standards for off-highway recreational vehicles.
2419.3 | New Off-Highway Recreational Vehicle Evaporative Emission Standards, Enforcement and Recall Provisions, Warranty, Quality Audit, and New Engine Testing | 4/1/2015 | [Insert Federal Register citation], 5/18/2018 | Sections 2416-2419.4 establish certain evaporative emission standards for off-highway recreational vehicles.
2419.4 | Evaporative Emissions Control System Testing and Certification Requirement | 4/1/2015 | [Insert Federal Register citation], 5/18/2018 | Sections 2416-2419.4 establish certain evaporative emission standards for off-highway recreational vehicles.
* * * * * * *
2477 | Airborne Toxic Control Measure for In-Use Diesel-Fueled Transport Refrigeration Units (TRU) and TRU Generator Sets, and Facilities Where TRUs Operate | 10/15/2012 | [Insert Federal Register citation], 5/18/2018 | Sections 2477-2477.21 establish emissions standards and other requirements relating to the control of emissions from in-use diesel-fueled transport refrigeration units (TRUs), TRU generator sets, and facilities where TRUs operate.
2477.1 | Purpose | 10/15/2012 | [Insert Federal Register citation], 5/18/2018 | Sections 2477-2477.21 establish emissions standards and other requirements relating to the control of emissions from in-use diesel-fueled transport refrigeration units (TRUs), TRU generator sets, and facilities where TRUs operate.
2477.2 | Applicability | 10/15/2012 | [Insert Federal Register citation], 5/18/2018 | Sections 2477-2477.21 establish emissions standards and other requirements relating to the control of emissions from in-use diesel-fueled transport refrigeration units (TRUs), TRU generator sets, and facilities where TRUs operate.
2477.3 | Exemptions | 10/15/2012 | [Insert Federal Register citation], 5/18/2018 | Sections 2477-2477.21 establish emissions standards and other requirements relating to the control of emissions from in-use diesel-fueled transport refrigeration units (TRUs), TRU generator sets, and facilities where TRUs operate.
2477.4 | Definitions | 10/15/2012 | [Insert Federal Register citation], 5/18/2018 | Sections 2477-2477.21 establish emissions standards and other requirements relating to the control of emissions from in-use diesel-fueled transport refrigeration units (TRUs), TRU generator sets, and facilities where TRUs operate.
2477.5 | Requirements for Owners or Owner/Operators | 10/15/2012 | [Insert Federal Register citation], 5/18/2018 | Sections 2477-2477.21 establish emissions standards and other requirements relating to the control of emissions from in-use diesel-fueled transport refrigeration units (TRUs), TRU generator sets, and facilities where TRUs operate.
2477.6 | Requirements for Terminal Operators | 10/15/2012 | [Insert Federal Register citation], 5/18/2018 | Sections 2477-2477.21 establish emissions standards and other requirements relating to the control of emissions from in-use diesel-fueled transport refrigeration units (TRUs), TRU generator sets, and facilities where TRUs operate.
2477.7 | Requirements for Drivers | 10/15/2012 | [Insert Federal Register citation], 5/18/2018 | Sections 2477-2477.21 establish emissions standards and other requirements relating to the control of emissions from in-use diesel-fueled transport refrigeration units (TRUs), TRU generator sets, and facilities where TRUs operate.
2477.8 | Requirements for Freight Brokers and Freight Forwarders | 10/15/2012 | [Insert Federal Register citation], 5/18/2018 | Sections 2477-2477.21 establish emissions standards and other requirements relating to the control of emissions from in-use diesel-fueled transport refrigeration units (TRUs), TRU generator sets, and facilities where TRUs operate.
2477.9 | Requirements for Motor Carriers | 10/15/2012 | [Insert Federal Register citation], 5/18/2018 | Sections 2477-2477.21 establish emissions standards and other requirements relating to the control of emissions from in-use diesel-fueled transport refrigeration units (TRUs), TRU generator sets, and facilities where TRUs operate.
2477.10 | Requirements for California-Based Shippers | 10/15/2012 | [Insert Federal Register citation], 5/18/2018 | Sections 2477-2477.21 establish emissions standards and other requirements relating to the control of emissions from in-use diesel-fueled transport refrigeration units (TRUs), TRU generator sets, and facilities where TRUs operate.
2477.11 | Requirements for California-Based Receivers | 10/15/2012 | [Insert Federal Register citation], 5/18/2018 | Sections 2477-2477.21 establish emissions standards and other requirements relating to the control of emissions from in-use diesel-fueled transport refrigeration units (TRUs), TRU generator sets, and facilities where TRUs operate.
2477.12 | Requirements for Lessors and Lessees | 10/15/2012 | [Insert Federal Register citation], 5/18/2018 | Sections 2477-2477.21 establish emissions standards and other requirements relating to the control of emissions from in-use diesel-fueled transport refrigeration units (TRUs), TRU generator sets, and facilities where TRUs operate.
2477.13 | Requirements for TRU and TRU Gen Set Original Equipment Manufacturers | 10/15/2012 | [Insert Federal Register citation], 5/18/2018 | Sections 2477-2477.21 establish emissions standards and other requirements relating to the control of emissions from in-use diesel-fueled transport refrigeration units (TRUs), TRU generator sets, and facilities where TRUs operate.
2477.14 | Requirements for TRU, TRU Gen Set, and TRU-Equipped Truck and Trailer Dealers | 10/15/2012 | [Insert Federal Register citation], 5/18/2018 | Sections 2477-2477.21 establish emissions standards and other requirements relating to the control of emissions from in-use diesel-fueled transport refrigeration units (TRUs), TRU generator sets, and facilities where TRUs operate.
2477.15 | Requirements for Repair Shops Located in California that Work on TRUs or TRU Gen Sets | 10/15/2012 | [Insert Federal Register citation], 5/18/2018 | Sections 2477-2477.21 establish emissions standards and other requirements relating to the control of emissions from in-use diesel-fueled transport refrigeration units (TRUs), TRU generator sets, and facilities where TRUs operate.
2477.16 | Requirements for Engine Rebuilders | 10/15/2012 | [Insert Federal Register citation], 5/18/2018 | Sections 2477-2477.21 establish emissions standards and other requirements relating to the control of emissions from in-use diesel-fueled transport refrigeration units (TRUs), TRU generator sets, and facilities where TRUs operate.
2477.17 | Facility Reporting | 10/15/2012 | [Insert Federal Register citation], 5/18/2018 | Sections 2477-2477.21 establish emissions standards and other requirements relating to the control of emissions from in-use diesel-fueled transport refrigeration units (TRUs), TRU generator sets, and facilities where TRUs operate.
2477.18 | Prohibitions | 10/15/2012 | [Insert Federal Register citation], 5/18/2018 | Sections 2477-2477.21 establish emissions standards and other requirements relating to the control of emissions from in-use diesel-fueled transport refrigeration units (TRUs), TRU generator sets, and facilities where TRUs operate.
2477.19 | Penalties | 10/15/2012 | [Insert Federal Register citation], 5/18/2018 | Sections 2477-2477.21 establish emissions standards and other requirements relating to the control of emissions from in-use diesel-fueled transport refrigeration units (TRUs), TRU generator sets, and facilities where TRUs operate.
2477.20 | Authority to Request Additional Information | 10/15/2012 | [Insert Federal Register citation], 5/18/2018 | Sections 2477-2477.21 establish emissions standards and other requirements relating to the control of emissions from in-use diesel-fueled transport refrigeration units (TRUs), TRU generator sets, and facilities where TRUs operate.
2477.21 | Severability | 10/15/2012 | [Insert Federal Register citation], 5/18/2018 | Sections 2477-2477.21 establish emissions standards and other requirements relating to the control of emissions from in-use diesel-fueled transport refrigeration units (TRUs), TRU generator sets, and facilities where TRUs operate.
* * * * * * *
93118.5, excluding (e)(1) | Airborne Toxic Control Measure for Commercial Harbor Craft | 7/20/2011 | [Insert Federal Register citation], 5/18/2018 | Applicability, exemptions, definitions, engine emission requirements, alternative control provisions, recordkeeping and reporting requirements, test methods. Excluded subsection relates to the low sulfur fuel use requirement.
* * * * * * *
¹ Table 1 lists EPA-approved California statutes and regulations incorporated by reference in the applicable SIP. Table 2 of paragraph (c) lists approved California test procedures, test methods and specifications that are cited in certain regulations listed in table 1. Approved California statutes that are nonregulatory or quasi-regulatory are listed in paragraph (e).

Table 2—EPA-Approved California Test Procedures, Test Methods, and Specifications
Title/subject | State effective date | EPA approval date | Additional explanation
* * * * * * *
California Exhaust Emission Standards and Test Procedures for 2004 and Subsequent Model Heavy-Duty Diesel Engines and Vehicles, as last amended October 12, 2011 | 12/22/2011 | [Insert Federal Register citation], 5/18/2018 | Submitted by CARB on June 15, 2017.
* * * * * * *
Test Procedures for Determining Evaporative Emissions from Off-Highway Recreational Vehicles (TP-933), adopted November 5, 2014 | 4/1/2015 | [Insert Federal Register citation], 5/18/2018 | Submitted by CARB on June 15, 2017.

* * * * *

[FR Doc. 2018-10570 Filed 5-17-18; 8:45 am]

BILLING CODE 6560-50-P